DEPARTMENT OF TRANSPORTATION

Federal Aviation Administration

[RTCA Special Committee 159]

Minimum Operational Performance Standards for Airborne Navigation Equipment Using Global Positioning System (GPS)

Pursuant to section 10(a)(2) of the Federal Advisory Committee Act (P.L. 92-463, 5 U.S.C., Appendix 2), notice is hereby given for a Special Committee 159 meeting to be held February 14-18, 2000, starting at 9 a.m. each day. The meeting will be held at RTCA, 1140 Connecticut Avenue, NW, Washington, DC 20036.

The agenda will be as follows:

Specific Working Group Sessions: February 14: 9 a.m.-12 p.m., Working Group 1, Third Civil Frequency; 1:30 p.m.-4:30 p.m., SC-159 Pseudolite Subgroup. February 15: Working Group 4, Precision Landing Guidance (GPS/LAAS). February 16: 9 a.m.-12 p.m., Working Group 4, Precision Landing Guidance (GPS/LAAS); Working Group 6, Interference, will begin a new activity for a detailed assessment of the radio frequency interference (RFI) environment relevant to GPS operation at the proposed new L5 frequency (176.45 MHz). This assessment is expected to be similar in scope to the one for L1 (1575.42 MHz) that was completed in 1996 and documented in RTCA DO-235. 1:30 p.m.-4:30 p.m., SC-159 Ad Hoc, Recommendation Support. February 17: Working Group 2, GPS/WAAS; Working Group 2C, GPS/Inertial; Working Group 4, Precision Landing Guidance (LAAS); Working Group 5, Airport Surface Surveillance.

February 18: Plenary Session: (1) Chairman's Introductory Remarks; (2) Approval of Summary of the Previous Meeting held October 7-8, 1999; (3) Review Working Group Progress and Identify Issues for Resolution: (a) GPS/3nd Civil Frequency (WG-1); (b) GPS/WAAS (WG-2); (c) GPS/GLONASS (WG-2A); (d) GPS/Inertial (WG-2C); (e) GPS/Precision Landing Guidance and (WG-4); (f) GPS/Airport Surface Surveillance (WG-5); (g) GPS Interference (WG-6); (h) SC-159 Ad Hoc. (4) Review of EUROCAE Activities; (5) Future Work Plan for GNSS Application to Airport Surface Operations; (6) Assignment/Review of Future Work; (7) Other Business; (8) Date and Location of Next Meeting; (9) Closing.

Attendance is open to the interested public but limited to space availability. With the approval of the chairman, members of the public may present oral statements at the meeting. Persons wishing to present statements or obtain information should contact Mr. Harold Moses, RTCA Program Director, at (202) 833-9339 (phone), (202) 833-9434 (fax), or hmoses@rtca.org (electronic mail). Members of the public may present a written statement to the committee at any time.

Issued in Washington, DC, on January 27, 2000.
Janice L. Peters,
Designated Official.

[FR Doc. 00-2266 Filed 02-01-00; 8:45 am]

BILLING CODE 4910-13-M